ENVIRONMENTAL PROTECTION AGENCY

40 CFR Part 52

[EPA-R04-OAR-2017-0500; FRL-9971-72-Region 4]

Air Plan Approval; Florida; Stationary Sources Emissions Monitoring; Withdrawal

AGENCY: Environmental Protection Agency (EPA).

ACTION: Withdrawal of direct final rule.

SUMMARY: Due to the receipt of an adverse comment, the Environmental Protection Agency (EPA) is withdrawing the October 13, 2017, direct final rule that would have approved changes to the Florida Department of Environmental Protection (FDEP) State Implementation Plan (SIP) to revise Florida's requirements and procedures for emissions monitoring at stationary sources. EPA will address the comment in a separate final action based upon the proposed rulemaking action, also published on October 13, 2017.

DATES: The direct final rule published at 82 FR 47636, on October 13, 2017, is withdrawn effective December 11, 2017.

FOR FURTHER INFORMATION CONTACT: Andres Febres, Air Regulatory Management Section, Air Planning and Implementation Branch, Air, Pesticides and Toxics Management Division, U.S. Environmental Protection Agency, Region 4, 61 Forsyth Street SW., Atlanta, Georgia 30303-8960. Mr. Febres can be reached via telephone at (404) 562-8966 or via electronic mail at febres-martinez.andres@epa.gov.

SUPPLEMENTARY INFORMATION: On October 13, 2017 (82 FR 47636), EPA published a direct final rule approving a portion of a SIP revision submitted by the State of Florida, through FDEP on February 1, 2017, for the purpose of revising Florida's requirements and procedures for emissions monitoring at stationary sources. Florida's February 1, 2017, SIP submittal included amendments to three Florida Administrative Code (F.A.C.) rule sections, as well as the removal of one F.A.C. rule section from the Florida SIP in order to eliminate redundant language and make updates to the requirements for emissions monitoring at stationary sources. Additionally, the October 13, 2017, direct final rule included a correction to remove an additional F.A.C. rule that was previously approved for removal from the SIP in a separate action but was never removed.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the final rule and informing the public that the rule would not take effect. It was also explained that all public comments received would then be addressed in a subsequent final rule based on the proposed rule, and that EPA would not institute a second comment period on this action.

EPA received one adverse comment from a single Commenter on the aforementioned changes. EPA will address the comment in a separate final action based on the proposed action also published on October 13, 2017 (82 FR 47662). In addition, because information in the docket was not fully accessible to the public during the initial comment period, in a separate action EPA will reopen the comment period for the proposed rule.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 21, 2017.
Onis “Trey” Glenn, III
Regional Administrator, Region 4.

Accordingly, the amendment to 40 CFR 52.520(c) published on October 13, 2017 (82 FR 47636), is withdrawn effective December 11, 2017.

[FR Doc. 2017-26633 Filed 12-8-17; 8:45 am]

BILLING CODE 6560-50-P